DEPARTMENT OF TRANSPORTATION

National Highway Traffic Safety Administration

[Docket No. NHTSA-00-7756]

Notice of Receipt of Petition for Decision That Nonconforming 1995-2000 Mazda Xedos 9 Passenger Cars Are Eligible for Importation

AGENCY: National Highway Traffic Safety Administration, DOT

ACTION: Notice of receipt of petition for decision that nonconforming 1995-2000 Mazda Xedos 9 Passenger cars are eligible for importation.

SUMMARY: This notice announces receipt by the National Highway Traffic Safety Administration (NHTSA) of a petition for a decision that 1995-2000 Mazda Xedos 9 passenger cars that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATE: The closing date for comments on the petition is September 14, 2000.

ADDRESSES: Comments should refer to the docket number and notice number, and be submitted to: Docket Management, Room PL-401, 400 Seventh St., SW., Washington, DC 20590. [Docket hours are from 9 am to 5 pm]

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”) (Registered Importer 90-007) has petitioned NHTSA to decide whether 1995-2000 Mazda Xedos 9 passenger cars are eligible for importation into the United States. The vehicles which G&K believes are substantially similar are 1995-2000 Mazda Millenia passenger cars that were manufactured for importation into, and sale in, the United States and certified by their manufacturer as conforming to all applicable Federal motor vehicle safety standards.

The petitioner claims that it carefully compared 1995-2000 Mazda Xedos 9 passenger cars to 1995-2000 Mazda Millenia passenger cars, and found the vehicles to be substantially similar with respect to compliance with most Federal motor vehicle safety standards.

G&K submitted information with its petition intended to demonstrate that 1995-2000 Mazda Xedos 9 passenger cars, as originally manufactured, conform to many Federal motor vehicle safety standards in the same manner as 1995-2000 Mazda Millenia passenger cars, or are capable of being readily altered to conform to those standards.

Specifically, the petitioner claims that 1995-2000 Mazda Xedos 9 passenger cars are identical to 1995-2000 Mazda Millenia passenger cars with respect to compliance with Standard Nos. 102 Transmission Shift Lever Sequence * * * 103 Defrosting and Defogging Systems, 104 Windshield Wiping and Washing Systems, 105 Hydraulic Brake Systems, 106 Brake Hoses, 109 New Pneumatic Tires, 113 Hood Latch Systems, 116 Brake Fluid, 118 Power Window Systems, 124 Accelerator Control Systems, 201 Occupant Protection in Interior Impact (petitioner states that the Millenia has not been certified by its manufacturer as conforming to the standard's upper interior head impact requirements), 202 Head Restraints, 203 Impact Protection for the Driver from the Steering Control System, 204 Steering Control Rearward Displacement, 205 Glazing Materials, 206 Door Locks and Door Retention Components, 207 Seating Systems, 209 Seat Belt Assemblies, 210 Seat Belt Assembly Anchorages, 212 Windshield Retention, 214 Side Impact Protection, 216 Roof Crush Resistance, 219 Windshield Zone Intrusion, 301 Fuel System Integrity, and 302 Flammability of Interior Materials.

Additionally, the petitioner states that 1995-2000 Mazda Xedos 9 passenger cars comply with the Bumper Standard found in 49 CFR Part 581.

Petitioner also contends that the vehicles are capable of being readily altered to meet the following standards, in the manner indicated:

Standard No. 101 Controls and Displays: (a) installation of a seat belt warning lamp that displays the required seat belt symbol; (b) recalibration of the speedometer/odometer from kilometers to miles per hour; (c) replacement of the entire instrument cluster on most vehicles with an instrument cluster that displays the appropriate brake and other warning insignia in English.

Standard No. 108 Lamps, Reflective Devices and Associated Equipment: installation of U.S.-model headlamp assemblies and front sidemarkers.

Standard No. 110 Tire Selection and Rims: (a) inspection of all vehicles and replacement of any tires that do not bear DOT markings or are not of the same size and shape as those on U.S.-certified models; (b) installation of a tire information placard.

Standard No. 111 Rearview Mirror: inspection of all vehicles and replacement of any passenger side rearview mirrors that do not bear the required warning statement.

Standard No. 114 Theft Protection: installation of a warning buzzer microswitch in the steering lock assembly and a warning buzzer.

Standard No. 208 Occupant Crash Protection: (a) installation of a seat belt warning buzzer; (b) inspection of all vehicles and replacement of any driver's and passenger's side air bags and knee bolsters with part numbers that differ from those installed on U.S. certified models. The petitioner states that the vehicles are equipped with Type 2 seat belts in the front and rear outboard designated seating positions, and with a Type 1 seat belt in the rear center designated seating position.

The petitioner states that the vehicles are equipped with anti-theft devices which exempt them from the parts marking requirements of the Theft Prevention Standard at 49 CFR Part 541. The petitioner states that all vehicles will be inspected prior to importation, and that all anti-theft devices with part numbers that differ from those on U.S. certified models will be replaced.

The petitioner also states that a VIN plate must be affixed to the vehicle so that it can be read from the left windshield pillar, and a VIN reference label must be affixed to the edge of the door or to the latch post nearest the driver, to meet the requirements of 49 CFR Part 565.

Interested persons are invited to submit comments on the petition described above. Comments should refer to the docket number and be submitted to: Docket Management, Room PL-401, 400 Seventh St., SW, Washington, DC 20590. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: August 9, 2000.
Marilynne Jacobs,
Director, Office of Vehicle Safety Compliance.

[FR Doc. 00-20669 Filed 8-14-00; 8:45 am]

BILLING CODE 4910-59-P